ENVIRONMENTAL PROTECTION AGENCY

40 CFR Part 52

[EPA-R06-OAR-2006-0867; FRL-8715-7]

Approval and Promulgation of Air Quality Implementation Plans; Texas; Control of Air Pollution by Permits for New Construction or Modification

AGENCY: Environmental Protection Agency (EPA).

ACTION: Final rule.

SUMMARY: EPA is approving a revision to the Texas State Implementation Plan (SIP), submitted by the Texas Commission on Environmental Quality (TCEQ) on October 9, 2006. The SIP revision EPA is approving would require decreased newspaper notice for proposed air quality Standard Permits with statewide applicability to the following metropolitan areas: Austin, Dallas, Houston, and any other regional newspapers the TCEQ Executive Director designates on a case-by-case basis. TCEQ will publish notice of a proposed air quality Standard Permit in the Texas Register and will issue a press release. In addition, TCEQ may also use electronic means to inform state and local officials of a proposed air quality Standard Permit. EPA is approving this revision pursuant to section 110 of the Federal Clean Air Act (Act).

DATES: This rule is effective on October 17, 2008.

ADDRESSES: The EPA has established a docket for this action under Docket ID Number EPA-R06-OAR-2006-0867. All documents in the docket are listed on the www.regulations.gov Web site. Although listed in the index, some information is not publicly available, e.g., CBI or other information whose disclosure is restricted by statute. Certain other material, such as copyrighted material, is not placed on the internet and will be publicly available only in hard copy form. Publicly available docket materials are available either electronically through www.regulations.gov or in hard copy at the Air Permits Section (6PD-R), Environmental Protection Agency, 1445 Ross Avenue, Suite 700, Dallas, Texas 75202-2733. The file will be made available by appointment for public inspection in the Region 6 FOIA Review Room between the hours of 8:30 a.m. and 4:30 p.m. weekdays except for legal holidays. Contact the person listed in the FOR FURTHER INFORMATION CONTACT paragraph below to make an appointment. If possible, please make the appointment at least two working days in advance of your visit. There will be a 15 cent per page fee for making photocopies of documents. On the day of the visit, please check in at the EPA Region 6 reception area at 1445 Ross Avenue, Suite 700, Dallas, Texas.

The State submittal is also available for public inspection at the State Air Agency listed below during official business hours by appointment:

Texas Commission on Environmental Quality, Office of Air Quality, 12124 Park 35 Circle, Austin, Texas 78753.

FOR FURTHER INFORMATION CONTACT: Mr. Stanley M. Spruiell, Air Permits Section (6PD-R), Environmental Protection Agency, Region 6, 1445 Ross Avenue, Suite 700, Dallas, Texas 75202-2733, telephone (214) 665-7212; fax number 214-665-7263; e-mail address spruiell.stanley@epa.gov.

SUPPLEMENTARY INFORMATION: Throughout this document wherever “we,” “us,” or “our” is used, we mean the EPA.

Outline

I. What Action Is EPA Taking?

II. Final Action

III. Statutory and Executive Order Reviews

I. What Action Is EPA Taking?

EPA is approving a revision to 30 Texas Administrative Code (TAC), Chapter 116 (Control of Air Pollution by Permits for New Construction or Modification), Subchapter F (Standard Permits), section 116.603 (Public Participation in Issuance of Standard Permits). TCEQ adopted a revision to this section on September 20, 2006, and submitted the proposed SIP revision to EPA on October 9, 2006 for approval.

The SIP revision requires that any proposed air quality Standard Permit with statewide applicability be published in the daily newspaper of largest general circulation within each of the following metropolitan areas: Austin, Dallas, Houston, and any other regional newspaper designated by the Executive Director on a case-by-case basis. The proposed revision also requires TCEQ to publish notice of a proposed Standard Permit in the Texas Register and issue a press release. However, the proposed revision changes the current EPA SIP-approved rule as it no longer requires TCEQ to issue newspaper notices for proposed Standard Permits with statewide applicability in the following metropolitan areas: Amarillo, Corpus Christi, El Paso, the Lower Rio Grande Valley, Lubbock, the Permian Basin, or Tyler. EPA approves the revision as meeting the federal requirements of the Act, Public Availability of Information, which requires “. . . [n]otice by prominent advertisement in the area affected * * *.”

On May 15, 2008 (73 FR 28071), we published our proposed approval of this SIP revision. The proposal provided detailed information about the Texas SIP revision that we are approving today. The proposal also provided a detailed analysis of our rationale for approving the Texas SIP revision. In the proposal, we provided opportunity for public comment on the proposed action. The comment period for this proposed rulemaking ended June 16, 2008. We received no comments, adverse or otherwise, on the proposed rulemaking. We are therefore finalizing our proposed approval without changes. For more details on this submittal, please refer to the proposed rulemaking and to the Technical Support Document, which is in the docket for this action.

For the reasons discussed in the proposed rulemaking and in the Technical Support Document, EPA believes that the revision to Section 116.603 continues to ensure that the entire State of Texas is provided with adequate public notice of any proposed Standard Permit with statewide applicability and ensures that citizens in Texas are afforded the opportunity to comment on the proposed Standard Permit.

Section 110(l) of the CAA states that EPA cannot approve a SIP revision if the revision would interfere with any applicable requirements concerning attainment and reasonable further progress towards attainment of the National Ambient Air Quality Standards (NAAQS) or any other applicable requirements of the Act. Our review of the Texas SIP submittal discussed in this notice and the Technical Support Document demonstrated that although public notice for Standard Permits with Statewide applicability will be published in fewer newspapers, EPA believes that this SIP revision continues to meet the Federal requirements relating to public notice for new and modified sources. For these reasons we believe that the revision will not interfere with any applicable requirements concerning attainment and reasonable further progress towards attainment of the NAAQS or any other applicable requirements of the Act.

II. Final Action

For the reasons discussed above, EPA is approving the changes to 30 TAC 116.603 (Public Participation in Issuance of Standard Permits) submitted October 9, 2006, as a revision to the Texas SIP.

III. Statutory and Executive Order Reviews

Under the Clean Air Act, the Administrator is required to approve a SIP submission that complies with the provisions of the Act and applicable Federal regulations. 42 U.S.C. 7410(k); 40 CFR 52.02(a). Thus, in reviewing SIP submissions, EPA's role is to approve state choices, provided that they meet the criteria of the Clean Air Act. Accordingly, this action merely approves state law as meeting Federal requirements and does not impose additional requirements beyond those imposed by state law. For that reason, this final action:

• Is not a “significant regulatory action” subject to review by the Office of Management and Budget under Executive Order 12866 (58 FR 51735, October 4, 1993);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the Clean Air Act; and

• Does not provide EPA with the discretionary authority to address, as appropriate, disproportionate human health or environmental effects, using practicable and legally permissible methods, under Executive Order 12898 (59 FR 7629, February 16, 1994).

In addition, this rule does not have tribal implications as specified by Executive Order 13175 (65 FR 67249, November 9, 2000), because the SIP is not approved to apply in Indian country located in the state, and EPA notes that it will not impose substantial direct costs on tribal governments or preempt tribal law.

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the Clean Air Act, petitions for judicial review of this action must be filed in the United States Court of Appeals for the appropriate circuit by November 17, 2008. Filing a petition for reconsideration by the Administrator of this final rule does not affect the finality of this rule for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Carbon monoxide, Incorporation by reference, Intergovernmental relations, Lead, Nitrogen dioxide, Ozone, Particulate matter, Reporting and recordkeeping requirements, Sulfur oxides, Volatile organic compounds.

Dated: September 2, 2008.
Richard E. Greene,
Regional Administrator, Region 6.

40 CFR part 52 is amended as follows:

PART 52—[AMENDED]

1. The authority citation for part 52 continues to read as follows:

Authority: 42 U.S.C. 7401 et seq.

Subpart SS—Texas

2. The table in § 52.2270(c) entitled “EPA-Approved Regulations in the Texas SIP” is amended by revising the entry for Section 116.603 to read as follows:

§ 52.2270 Identification of plan.

* * * * *

(c) * * *

EPA-Approved Regulations in the Texas SIP
State citation | Title/subject | State approval/submittal date | EPA approval date | Explanation
* * * * * * *
Chapter 116 (Reg 6)—Control of Air Pollution by Permits for New Construction or Modification
* * * * * * *
Subchapter F—Standard Permits
* * * * * * *
Section 116.603 | Public Participation in Issuance of Standard Permits | 09/20/06 | 9/17/08 [Insert FR page number where document begins]
* * * * * * *

[FR Doc. E8-21490 Filed 9-16-08; 8:45 am]

BILLING CODE 6560-50-P